GOVERNMENT ACCOUNTABILITY OFFICE

Advisory Council on the Standards for Internal Control in the Federal Government; Meeting

AGENCY: U.S. Government Accountability Office.

ACTION: Advisory Council on the Standards for Internal Control in the Federal Government; Notice of Meeting.

SUMMARY: The US Government Accountability Office (GAO) is initiating efforts to revise the Standards for Internal Control in the Federal Government “Green Book” under our authority in 31 U.S.C. 3512 (c), (d) (commonly known as the Federal Managers' Financial Integrity Act). As part of the revision process, GAO has established and is holding its inaugural meeting with the Green Book Advisory Council (GBAC). The Comptroller General has established the GBAC to provide input and recommendations to the Comptroller General on revisions to the “Green Book.” The purpose of the meeting is to discuss proposed revisions to the “Green Book.”

DATES: The meeting will be held May 20, 2013, from 9:00 a.m. to 3:00 p.m.

ADDRESSES: The meeting will be held at the US Government Accountability Office, 441 G St. NW., Washington, DC 20548 in the 7th floor Staats Briefing Room, Room 7C13.

FOR FURTHER INFORMATION CONTACT: For information on the Green Book Advisory Council and the Standards for Internal Control in the Federal Government please contact Kristen Kociolek, Assistant Director, Financial Management and Assurance telephone 202-512-2989, 441 G Street NW., Washington, DC 20548-0001.

SUPPLEMENTARY INFORMATION: Members of the public will be provided and opportunity to address the Council with a brief (five-minute) presentation in the afternoon on matters directly related to the proposed update and revision. Any interested person who plans to attend the meeting as an observer must contact Kristen Kociolek, Assistant Director, 202-512-2989, prior to May 16, 2013. A form of picture identification must be presented to the GAO Security Desk on the day of the meeting to obtain access to the GAO building. Please enter the building at the G Street entrance.

Authority: 31 U.S.C. 3512 (c), (d).

James Dalkin,
Director, Financial Management and Assurance.

[FR Doc. 2013-08621 Filed 4-12-13; 8:45 am]

BILLING CODE 1610-02-M